NUCLEAR REGULATORY COMMISSION

[Docket Nos. 50-275 and 50-323; NRC-2023-0192]

Pacific Gas and Electric Company; Diablo Canyon Nuclear Power Plant, Units 1 and 2

AGENCY: Nuclear Regulatory Commission.

ACTION: License renewal application; receipt.

SUMMARY: The U.S. Nuclear Regulatory Commission (NRC) has received an application for the renewal of Facility Operating License Nos. DPR-80 and DPR-82, which authorize Pacific Gas and Electric Company (PG&E, the applicant) to operate Diablo Canyon Nuclear Power Plant (DCPP), Units 1 and 2. The renewed licenses would authorize the applicant to operate DCPP for an additional 20 years beyond the period specified in each of the current licenses. The current operating licenses for DCPP expire as follows: Unit 1 on November 2, 2024, and Unit 2 on August 26, 2025.

DATES: The license renewal application referenced in this document is available on November 7, 2023.

ADDRESSES: Please refer to Docket ID NRC-2023-0192 when contacting the NRC about the availability of information regarding this document. You may obtain publicly available information related to this document using any of the following methods:

• Federal Rulemaking Website: Go to https://www.regulations.gov and search for Docket ID NRC-2023-0192. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• Public Library: A copy of the license renewal application for DCPP can be accessed at the following public library: San Luis Obispo Library, 995 Palm St, San Luis Obispo, CA 93403.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Brian Harris, Office of Nuclear Reactor Regulation, U.S. Nuclear Regulatory Commission, Washington, DC 20555-0001; telephone: 301-415-2277; email: Brian.Harris2@nrc.gov.

SUPPLEMENTARY INFORMATION: The NRC has received an application (ADAMS Accession No. ML23311A154) from PG&E, dated November 7, 2023, filed pursuant to section 103 of the Atomic Energy Act of 1954, as amended, and part 54 of title 10 of the Code of Federal Regulations, “Requirements for Renewal of Operating Licenses for Nuclear Power Plants,” to renew the operating licenses for DCPP. Renewal of the licenses would authorize the applicant to operate the facility for an additional 20-year period beyond the period specified in the respective current operating licenses. The current operating licenses for DCPP expire as follows: Unit 1 on November 2, 2024, and Unit 2 on August 26, 2025. The DCPP units are pressurized-water reactors located in Avila Beach, California. The acceptability of the tendered application for docketing, and other matters, including an opportunity to request a hearing, will be the subject of subsequent Federal Register notices.

A copy of the license renewal application for DCPP is also available to local residents near the site at the San Luis Obispo Library, 995 Palm St, San Luis Obispo, CA 93403.

Dated: November 15, 2023.
For the Nuclear Regulatory Commission.
Lauren K. Gibson,
Chief, License Renewal Project Branch, Division of New and Renewed Licenses, Office of Nuclear Reactor Regulation.

[FR Doc. 2023-25578 Filed 11-17-23; 8:45 am]

BILLING CODE 7590-01-P